DEPARTMENT OF JUSTICE

Office of Justice Programs

Agency Information Collection Activities: Proposed Collection; Comments Requested

ACTION: 60-Day notice of information collection under review: reinstatement, with change, of a previously approved collection for which approval has expired; accounting system and financial capability questionnaire.

The Department of Justice (DOJ), Office of Justice Program, has submitted the following information collection request of the Office of Management and Budget (OMB) for review and approval in accordance with the Paperwork Reduction Act of 1995. The proposed information collection is published to obtain comments from the public and affected agencies. Comments are encouraged and will be accepted for “sixty days” until July 29, 2002. This process is conducted in accordance with 5 CFR 1320.10.

If you have comments especially on the estimated public burden or associated response time, suggestions, or need a copy of the proposed information collection instrument with instructions or additional information, please contact Cynthia J. Schwimer, Comptroller (202) 307-0623, Office of Justice Programs, U.S. Department of Justice, 810 Seventh Street NW., Washington, DC 20531.

Request written comments and suggestions from the public and affected agencies concerning the proposed collection of information are encouraged. Your comments should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: Reinstatement, With Change, of a Previously Approved Collection for Which Approval has Expired.

(2) Title of the Form/Collection: Accounting System and Financial Capability Questionnaire.

(3) Agency from number, if any, and the applicable component of the Department of Justice sponsoring the collection: Form Number: OJP Form 7120/1. Office of Justice Programs, US Department of Justice.

(4) Affected public who will be asked or required to respond, as well as brief abstract: Primary: Not-for-profit institutions. Other: For-profit institutions. This form will be completed by applicants that are newly-formed firms or established firms with no previous grants awarded by the Office of Justice Programs. It is used as an aide to determine those applicants/grantees that may require special attention in matters relating to the accountability of Federal funds. This information is required for assessing the financial risk of a potential recipient in administrating federal funds in accordance with OMB Circular A-110 and 28 CFR part 70.

(5) An estimate of the total number of respondents and the amount of time estimated for an average respondent to respond: It is estimated that 100 respondents will complete a 4-hour form.

(6) An estimate of the total public burden (in hours) associated with the collection: There are an estimated 400 annual total burden hours associated with this collection.

If additional information is required contact: Brenda E. Dyer, Department Deputy Clearance Officer, Information Management and Security Staff, Justice Management Division, Department of Justice, Patrick Henry Building, Suite 1600, 601 D Street NW., Washington, DC 20530.

Dated: May 24, 2002.
Brenda E. Dyer,
Department Deputy Clearance Officer, Department of Justice.

[FR Doc. 02-13602 Filed 5-29-02; 8:45 am]

BILLING CODE 4410-18-M